DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 6, 2024. See Supplementary Information for relevant dates.

FOR FURTHER INFORMATION CONTACT: OFAC: Associate Director for Global Targeting, 202-622-2420; Assistant Director for Licensing, 202-622-2480; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 6, 2024, OFAC determined that the property and interests in property subject to U.S. jurisdiction of the following persons are blocked under the relevant sanctions authority listed below.

Individual

1. PERISIC, Vladimir, Bosnia and Herzegovina; DOB 14 Nov 1976; nationality Bosnia and Herzegovina; Gender Male; Passport B0786296 (Bosnia and Herzegovina) (individual) [BALKANS-EO14033] (Linked To: DODIK, Igor).

Designated pursuant to section 1(a)(vii) of E.O. 14033 for being owned or controlled by, or having acted or purported to act for or on behalf of, directly or indirectly, Igor Dodik, a person whose property and interests in property are blocked pursuant to E.O. 14033.

Entity

1. ELPRING D.O.O. LAKTASI, XVI Krajiske Motorizovane Brigade 63, Laktasi 78250, Bosnia and Herzegovina; Organization Established Date 17 Jul 2024; Tax ID No. 4405278340001 (Bosnia and Herzegovina); Business Registration Number 57-01-0312-24 (Bosnia and Herzegovina) [BALKANS-EO14033] (Linked To: DODIK, Igor).

Designated pursuant to section 1(a)(vii) of E.O. 14033 for being owned or controlled by, or having acted or purported to act for or on behalf of, directly or indirectly, Igor Dodik, a person whose property and interests in property are blocked pursuant to E.O. 14033.

Lisa M. Palluconi,
Acting Director, Office of Foreign Assets Control.

[FR Doc. 2024-26137 Filed 11-8-24; 8:45 am]

BILLING CODE 4810-AL-P